DEPARTMENT OF TRANSPORTATION

Federal Aviation Administration

Notice of Intent To Rule on Request To Release Airport Property at the Reading Regional Airport, Reading, PA

AGENCY: Federal Aviation Administration (FAA) DOT.

ACTION: Notice of request to release airport property.

SUMMARY: The FAA proposes to rule and invite public comment on the release of land at the Reading Regional Airport, Reading, Pennsylvania under the provisions of Section 47125(a) of Title 49 United States Code (U.S.C.).

DATES: Comments must be received on or before June 3, 2010.

ADDRESSES: Comments on this application may be mailed or delivered to the following address:

Terry P. Sroka, Manager, Reading Regional Airport Authority, 2501 Bernville Road, Reading, PA 19605,

and at the FAA Harrisburg Airports District Office:

Lori K. Pagnanelli, Manager, Harrisburg Airports District Office, 3905 Hartzdale Dr., Suite 508, Camp Hill, PA 17011.

FOR FURTHER INFORMATION CONTACT: Rick Harner, Program Manager Harrisburg Airports District Office location listed above. The request to release property may be reviewed in person at this same location.

SUPPLEMENTARY INFORMATION: The FAA invites public comment on the request to release property at the Reading Regional Airport under the provisions of Section 47125(a) of Title 49 U.S.C. On March 30, 2010, the FAA determined that the request to release property at the Reading Regional Airport submitted by the Reading Regional Airport Authority (Authority) met the procedural requirements.

The following is a brief overview of the request:

The Reading Regional Airport Authority requests the release of real property totaling 154.93 acres (Lot #1), excluding 2.54 acres (Lot #5 Reading Regional Airport Waste Water Treatment Plant), of non-aeronautical airport property to Berks County Industrial Development Authority. The property was transferred to the City of Reading through the Surplus Property Act of 1944 via the Quit Claim Deed. A portion of the property is currently leased to a private company, which will be transferred to the buyer. The property is located on the east side of the airport and is bordered by Aviation Road running east and turning north. The purpose of this release is to allow the Reading Regional Airport Authority to sell the subject land that does not serve any aeronautical purpose at the airport. There are no impacts to the Airport and the land is not needed for airport development as shown on the Airport Layout Plan. Any proceeds from the sale of property are to be used for the capital and operating costs of the airport.

Any person may inspect the request by appointment at the FAA office address listed above. Interested persons are invited to comment on the proposed release from obligations. All comments will be considered by the FAA to the extent practicable.

Issued in Camp Hill, Pennsylvania, April 26, 2010.
Lori K. Pagnanelli,
Manager, Harrisburg Airports District Office.

[FR Doc. 2010-10319 Filed 5-3-10; 8:45 am]

BILLING CODE 4910-13-P